DEPARTMENT OF HOMELAND SECURITY

Coast Guard

33 CFR Part 100

[Docket No. USCG-2010-0672]

Notice of Enforcement for Special Local Regulation; Thunderboat Regatta; Mission Bay, CA

AGENCY: Coast Guard, DHS.

ACTION: Notice of enforcement of regulation.

SUMMARY: The Coast Guard will enforce the Thunderboat Regatta Special Local Regulation from 7 a.m. PST on September 17, 2010 through 5:30 p.m. on September 19, 2010. This action is necessary to provide for the safety of the participants, crew, spectators, participating vessels, and other vessels and users of the waterway. During the enforcement period, no person or vessel may enter the zone established by the special local regulation without permission of the Captain of the Port.

DATES: The regulations in 33 CFR 100.1101 will be enforced from 7 a.m. to 5:30 p.m. on September 17, 18, and 19, 2010.

FOR FURTHER INFORMATION CONTACT: If you have questions on this notice, call or e-mail Petty Officer Shane Jackson, Waterways Management, U.S. Coast Guard Sector San Diego, Coast Guard; telephone 619-278-7262, e-mail Shane.E.Jackson@USCG.mil.

SUPPLEMENTARY INFORMATION:

The Coast Guard will enforce the special local regulation for the Thunderboat Regatta in 33 CFR 100.1101 on September 17, 2010, from 7 a.m. PST to 5:30 p.m., September 18, 2010, from 7 a.m. PST to 5:30 p.m., and September 19, 2010, from 7 a.m. PST to 5:30 p.m.

Under the provisions of 33 CFR 100.1101, a vessel may not enter the regulated area, unless it receives permission from the COTP. Spectator vessels may safely transit outside the regulated area but may not anchor, block, loiter in, or impede the transit of participants or official patrol vessels. The Coast Guard may be assisted by other Federal, State, or local law enforcement agencies in enforcing this regulation.

This notice is issued under authority of 33 CFR 100.1101(a) and 5 U.S.C. 552(a). In addition to this notice in the Federal Register, the Coast Guard will provide the maritime community with notification of this enforcement period via the Local Notice to Mariners, marine information broadcasts, local radio stations and area newspapers. If the COTP or his designated representative determines that the regulated area need not be enforced for the full duration stated in this notice, he or she may use a Broadcast Notice to Mariners to grant general permission to enter the regulated area.

Dated: August 26, 2010.
T.H. Farris,
Captain, U.S. Coast Guard, Captain of the Port San Diego.

[FR Doc. 2010-22798 Filed 9-13-10; 8:45 am]

BILLING CODE 9110-04-P